ENVIRONMENTAL PROTECTION AGENCY

40 CFR Part 52

[EPA-R10-OAR-2016-0749; FRL-9974-59—Region 10]

Approval and Promulgation of State Implementation Plans; Alaska; Regional Haze Progress Report

AGENCY: Environmental Protection Agency (EPA).

ACTION: Proposed rule.

SUMMARY: The Environmental Protection Agency (EPA) is proposing to approve a revision to the Alaska Regional Haze State Implementation Plan (SIP), submitted by the State of Alaska on March 10, 2016. Alaska submitted its Regional Haze Progress Report (“progress report” or “report”) and a negative declaration stating that further revision of the existing regional haze SIP is not needed at this time. Alaska submitted both the progress report and the negative declaration in the form of implementation plan revisions as required by federal regulations. The progress report addresses the federal Regional Haze Rule (RHR) requirements under the Clean Air Act (CAA) to submit a report describing progress in achieving reasonable progress goals (RPGs) established for regional haze and a determination of the adequacy of the state's existing plan addressing regional haze. We are also proposing to approve minor updates to the Enhanced Smoke Management Plan, Long-Term Strategy, and Commitment to Future 308 Plan Revision sections of the regional haze SIP, submitted concurrently with the progress report.

DATES: Comments must be received on or before March 19, 2018.

ADDRESSES: Submit your comments, identified by Docket ID No. EPA-R10-OAR-2016-0749 at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: Jeff Hunt, Air Planning Unit, Office of Air and Waste (OAW-150), Environmental Protection Agency—Region 10, 1200 Sixth Ave., Seattle, WA 98101; telephone number: (206) 553-0256, email address: hunt.jeff@epa.gov.

SUPPLEMENTARY INFORMATION: Throughout this document whenever “we,” “us,” or “our” is used, it is intended to refer to the EPA.

I. Background

Alaska submitted its initial regional haze SIP to the EPA on March 29, 2011, for the first regional haze planning period ending in 2018, which the EPA approved on February 14, 2013.¹ Five years after submittal of the initial regional haze plan, states are required to submit progress reports that evaluate progress towards the RPGs for each mandatory Class I Federal area ² (Class I area) within the state and in each Class I area outside the state which may be affected by emissions from within the state. 40 CFR 51.308(g). States are also required to submit, at the same time as the progress report, a determination of the adequacy of the state's existing regional haze plan. 40 CFR 51.308(h). On March 10, 2016, the Alaska Department of Environmental Conservation (ADEC) submitted as a SIP revision a report on the progress made in the first implementation period towards the RPGs for Class I areas. EPA is proposing to approve Alaska's progress report on the basis that it satisfies the requirements of 40 CFR 51.308. We also propose to find that Alaska's progress report demonstrates that the state's long-term strategy and emission control measures in the existing regional haze SIP are sufficient to enable Alaska to meet all established RPGs for 2018.

¹ See 78 FR 10546.

² Areas designated as mandatory Class I Federal areas consist of national parks exceeding 6000 acres, wilderness areas and national memorial parks exceeding 5000 acres, and all international parks that were in existence on August 7, 1977 (42 U.S.C. 7472(a)). Listed at 40 CFR part 81 subpart D.

II. Context for Understanding Alaska's Progress Report

To facilitate a better understanding of Alaska's progress report as well as the EPA's evaluation of it, this section provides background on the regional haze program in Alaska.

A. Framework for Measuring Progress

The EPA has established a metric for determining visibility conditions at Class I areas referred to as the “deciview index,” which is measured in deciviews, as defined in 40 CFR 51.301. The deciview index is calculated using monitoring data collected from the Interagency Monitoring of Protected Visual Environments (IMPROVE) network monitors. Alaska has four Class I areas within its borders: Denali National Park and Preserve, Tuxedni National Wildlife Refuge, Simeonof Wilderness Area, and the Bering Sea Wilderness Area. In developing its initial regional haze SIP, Alaska determined, and the EPA in its approval agreed, that due to lack of proximity to other states, visibility in Alaska's Class I areas is not affected by emission sources in other states. Likewise, Alaska determined, and the EPA agreed, that emission sources in Alaska do not affect visibility in Class I areas in other states. Therefore, Alaska's progress report does not address visibility impacts from sources in other states or the visibility impact of Alaska sources on Class I areas in other states.

Under the RHR, a state's initial regional haze SIP must establish two RPGs for each of its Class I areas: One for the 20 percent least impaired days and one for the 20 percent most impaired days. The RPGs must provide for an improvement in visibility on the 20 percent most impaired days and ensure no degradation in visibility on the 20 percent least impaired days, as compared to visibility conditions during the baseline period. In establishing the RPGs, a state must consider the uniform rate of visibility improvement from the baseline to natural conditions in 2064 and the emission reductions measures needed to achieve it. Alaska set the RPGs for the Denali, Tuxedni, and Simeonof Class I areas. In setting the RPGs for these three Class I areas, Alaska used atmospheric air quality modeling based on projected emission reductions from control strategies in Alaska's regional haze SIP, as well as emission reductions expected to result from other federal, state and local air quality programs.

Alaska's fourth Class I area, the Bering Sea Wilderness Area, is extremely remote, with no IMPROVE monitoring site. Therefore, no RPG was established for this area in Alaska's regional haze SIP, and Alaska's progress report does not address visibility progress in this area.³

³ As explained in the EPA's proposed rule to approve Alaska's RH SIP on February 24, 2012, the Bering Sea Wilderness Area is 350 miles southwest of Nome, Alaska and dominated by a harsh environment. There is no electricity in the Wilderness Area and the nearest major stationary sources are located hundreds of miles away. Accordingly, establishing and maintaining an IMPROVE monitoring site in the area is unnecessary and impractical. 77 FR 11022, 11028.

B. Data Sources for Alaska's Progress Report

Alaska relied on the Western Regional Air Partnership (WRAP) technical data and analyses in a report titled “Western Regional Air Partnership Regional Haze Rule Reasonable Progress Summary Report” (WRAP Report), dated June 28, 2013, included as an appendix in the progress report. The WRAP Report analyzes monitoring data collected in Alaska during the 2005-2009 period, and relies on emission data reported to the EPA's National Emissions Inventory (NEI) for 2008. Alaska then supplemented the information in the WRAP report with more current 2009-2013 visibility data for its Class I areas as part of the progress report adopted by the state in 2015.

III. The EPA's Evaluation of Alaska's Progress Report

This section describes the contents of Alaska's progress report and the EPA's evaluation of the report, as well as the EPA's evaluation of the determination of adequacy required by 40 CFR 51.308(h) and the requirement for state and Federal Land Manager coordination in 40 CFR 51.308(i).

A. Status of Implementation of All Measures Included in the Regional Haze SIP

In its progress report, Alaska provides a description of the control measures in the state's regional haze SIP that the state relied on to implement the regional haze program. According to the progress report, Alaska relied in its regional haze SIP upon, among other things, Best Available Retrofit Technology (BART) controls, its Prevention of Significant Deterioration/New Source Review permitting program, and its smoke management programs for agricultural and forestry burning to achieve the reasonable progress goals it established for its Class I areas. Alaska included a description of these programs in the progress report, which are summarized below.

1. BART-Level Controls

Alaska's regional haze SIP imposed BART-level controls on one source, the Golden Valley Electric Association's (GVEA) Healy Power Plant, Unit 1. The Healy Power Plant consists of two power generating units. Unit 1 is a nominal 25 megawatt (MW) coal-fired electric generating unit. The EPA approved the state's BART determination for this unit when we approved the Alaska regional haze SIP. Alaska determined that BART for Unit 1 included installation of Selective Non Catalytic Reduction (SNCR) to reduce nitrogen oxide (NOX) emissions. Accordingly, GVEA installed SNCR on Unit 1 in August of 2016. Unit 2, also referred to as the Healy Clean Coal Project, is a nominal 50 MW coal-fired electric generating unit not subject to BART.⁴ At the time of Alaska's regional haze SIP submittal, Unit 2 had not operated since test runs were completed in the late 1990's. GVEA started burning coal at Unit 2 in August 2015; however, Unit 2 ceased operation due to operational problems in March 2016 and then again a few days after a startup attempt in November 2016.

⁴ 78 FR 10546, February 14, 2013.

On November 19, 2012, the United States and GVEA entered into a consent decree that specifies conditions on Unit 1 and Unit 2 at the Healy Power Plant, separate from the BART-level controls required by Alaska's regional haze SIP.⁵ In particular, by December 31, 2022, GVEA must elect to either permanently retire Unit 1 by December 31, 2024, or install Selective Catalytic Reduction (SCR) on that unit to further reduce NOX emissions and begin operation of SCR by no later than December 31, 2024. In addition, the November 19, 2012, decree required GVEA to install SCR on Unit 2 by the later of September 30, 2015, or 24 months after it first fires coal, and to comply with specified emission limits. On August 8, 2017, the United States and GVEA filed amendments to the Consent Decree that require GVEA to install SCR on Unit 2 no later than 120 unit operating days after restart.⁶ In its progress report, Alaska provided an assessment of, among other things, the emissions limits that will be achieved through installation of SCR on Unit 2 once it becomes operational.⁷

⁵ United States v. Golden Valley Electric Association, Inc. and Alaska Industrial Development and Export Authority, Civ. No. 4:12-cv-00025-RRB (D. Alaska).

⁶ United States v. Golden Valley Electric Association, Inc., Civ. No. 4:12-cv-00025-RRB (D. Alaska).

⁷ Appendix III.K10-38, Comment Section C2.d.

2. Major New Source Review (NSR)/Prevention of Significant Deterioration (PSD)

Alaska's progress report states that a key regulatory program for addressing visibility impairment from new or modified industrial stationary sources is the state's Major New Source Review (NSR)/Prevention of Significant Deterioration (PSD) rule. According to Alaska, this rule protects visibility in Class I areas from impacts from new or modified major stationary sources. Alaska's regulations (18 AAC 50 Article 3) and the Alaska SIP require visibility impact assessments and mitigation of emissions from new and modified major stationary sources through protection of air quality related values (AQRVs). AQRVs are scenic and environmentally related values that may be adversely affected by a change in air quality, including visibility, odor, noise, vegetation, and soils. These visibility requirements were approved by the EPA into the Alaska SIP in 1983.

3. Smoke Management

In its regional haze SIP, Alaska predicted that implementation of more effective smoke management techniques in its Enhanced Smoke Management Plan (ESMP) would mitigate impacts of planned prescribed burning on visibility in its Class I areas. ADEC developed and implemented an ESMP, and included this ESMP as part of the long-term strategy approved as part of the initial 2011 regional haze SIP. According to the progress report, Alaska continues to implement the ESMP to reduce the impact of prescribed burns on air quality. The progress report contains an assessment of the emissions reduced as a result of prescribed fires. Alaska concludes in the progress report that prescribed fires have reduced the emissions from the area burned to close to half of what they would have been if they had burned during a wildfire.

Additionally, On June 3, 2015, the Alaska Wildfire Coordinating Group approved a routine 5-year update to the Alaska ESMP, which ADEC submitted as a SIP revision along with the progress report. The 2015 revisions to the ESMP were generally minor in nature, such as updating the summary text to note the EPA's approval of the initial regional haze SIP and availability of additional electronic tools for submitting controlled burn applications developed since the original ESMP. The most substantive change to the ESMP was an update of Chapter 6.2 “Public Notification and Exposure Reduction” to reflect changes to Alaska's air quality episode and advisory regulations, which the EPA approved in a separate action on September 8, 2017 (82 FR 42457).

Alaska also submitted a minor update to the long-term strategy, with two sentences edited to reflect adoption of the revised ESMP in 2015. The EPA is proposing to approve this set of minor revisions to the SIP.

B. Summary of Visibility Conditions

In addition to the evaluation of control measures, Alaska documented in the progress report the differences between the visibility conditions during the baseline period (2000-2004), the first progress period (2005-2009), and the most current five year averaging period (2009-2013) available at the time Alaska adopted the progress report in 2015. As part of our review, the EPA supplemented this information with current 2012-2016 data, as shown in Table 1.⁸

⁸ See “visibility data trends” included in the docket.

Table 1—Alaska Class I Area Visibility Conditions on the 20% Most and Least Impaired Days
Class I area | Baseline (2002-2004) (dv) ⁹ | First progress period (2005-2009) (dv) | Progress report update (2009-2013) (dv) | Most recent data (2012-2016) (dv) | 2018 Reasonable progress goal (dv) | Natural conditions (dv)
20% Most Impaired Days:
Denali Headquarters | 9.9 | 10.6 | 10.2 | 9.2 | 9.3 | 7.3
Trapper Creek (Denali) | 11.6 | 11.9 | 10.7 | 10.0 | 10.9 | 8.4
Tuxedni | 14.1 | 13.5 | 12.2 | * 12.4 | 13.4 | 11.3
Simeonof | 18.6 | 18.5 | 17.7 | 17.0 | 17.9 | 15.6
20% Least Impaired Days:
Denali Headquarters | 2.4 | 2.4 | 2.5 | 2.3 | 2.4 | 1.77
Trapper Creek (Denali) | 3.5 | 3.9 | 3.8 | 3.4 | 3.5 | 2.71
Tuxedni | 4.0 | 4.1 | 3.9 | * 3.8 | 4.0 | 3.15
Simeonof | 7.6 | 8.0 | 7.9 | 7.5 | 7.6 | 5.28
* 2015-16 data not available, see discussion below.

Alaska's concluded that for the 20% most impaired days, five-year average visibility remained about the same at the Simeonof and Tuxedni sites for the first progress period (2005-2009) compared to baseline conditions, but improved for the 2009-2013 averaging period. At the Denali Headquarters site, the visibility decreased during the first progress period compared to the baseline period, but showed an improvement in visibility for the 2009-2013 period. This improvement continued in the 2012-2016 period with the Denali Headquarters site now meeting the 2018 RPG. The Trapper Creek site showed a small visibility decrease during the first progress period compared to baseline conditions, but a visibility improvement during the 2009-2013 and 2012-2016 periods. Overall, visibility conditions for Denali Headquarters, Trapper Creek, Simeonof, and Tuxedni are all meeting 2018 RPGs for the 20% most impaired days based on 2012-2016 data. Regarding the visibility conditions on the 20% least impaired days, the WRAP performed a statistical trends analysis for the period 2002-2009, with only the 2005-2009 Trapper Creek monitoring data showing a statistically significant increase from the baseline.¹⁰ The most current 2012-2016 data shows all monitors meeting the 2018 RPGs for the 20% least impaired days.

⁹ For several Alaska Class I area sites, monitoring began in late 2001; therefore, only three complete years of monitoring data, 2002-2004, define their baselines. See page III.K.4-2 of the 2011 regional haze SIP.

¹⁰ Using an 85% confidence interval. Please see the WRAP supporting documentation included as Appendix D of the progress report for a full site by site analysis.

Regarding visibility monitoring, Alaska intends to continue relying on the IMPROVE network sites that represent the state's Class I areas for complying with the monitoring requirement in the RHR. As described in the progress report, the Tuxedni monitor discontinued operation in December 2014, when the property owner and site operator notified the U.S. Fish and Wildlife Service that he would no longer be able to service the site. The progress report also noted efforts by the U.S. National Park Service and U.S. Fish and Wildlife Service to establish a new site across the Cook Inlet, which they succeeded in doing roughly 3 miles south of the community of Ninilchik.¹¹ EPA finds that Alaska has adequately reviewed its visibility monitoring strategy, and proposes to determine that the strategy meets the regulatory requirements and that no modifications to the monitoring strategy are needed at this time.

¹¹ See 2016 Air Quality Monitoring Plan, included in the docket for this action.

C. Summary of Emissions Reductions

Alaska's progress report summarizes the emissions reductions attributable to anthropogenic sources and attributable to managing wildfire emissions. Regarding anthropogenic sources, the progress report summarizes reductions in sulfur dioxide (SO2), NOX, and PM2.5 emissions from implementation of the measures discussed above, as well as other emission reduction programs. Statewide anthropogenic NOX and SO2 emissions showed a downward trend between 2008 and 2013. These reductions, according to the progress report, are primarily attributable to (1) replacement of electric generating units, and (2) federal motor vehicle requirements.

Regarding the replacement of electric generating units, Alaska concludes that some of the reductions in NOX and SO2 point source emissions during the 2009-2013 period and beyond resulted from electricity generation sources installing cleaner generation units. Over the last several years, power plant owners and operators in south central Alaska have brought new generation facilities online and are reducing their use of older, more polluting equipment; typically, these older units have become reserves. Specifically, Alaska described three recent, significant changes made to the electricity generation sector in south central Alaska:

• Anchorage Municipal Light and Power's George Sullivan Plant Two's unit 1, a gas turbine generator rated for 480 million British thermal units (BTU)/hour, was put into limited operation as a reserve unit, resulting in reduced emissions from this unit.

• Chugach Electric Association's Beluga plant's units 3 and 5, both rated for 940 million BTU/hour, were put on reserve status, resulting in reduced emissions from these units.

• In 2014, Alaska Electricity and Energy Cooperative's Nikiski plant added a steamer unit to improve efficiency, reducing overall fuel requirements within the grid and thus reducing emissions from this plant.

Overall, Alaska concluded that NOX emissions show a downward trend for the 2009-2013 period, from 43,896 to 41,930 tons per year. Similarly, the SO2 annual emissions generally decreased with the exception of 2009, when emissions were noticeably higher. Alaska concluded that the SO2 increase during 2009 was primarily driven by operational changes at the North Pole Power Plant. The quantity of fuel combusted at this one power plant dropped by almost half from 2009 to 2010. Alaska also determined that over the same period, statewide PM10 emissions increased from 1,002 to 1,115 tons per year.

In addition, the progress report includes a discussion of control measures to attain and maintain the particulate matter national ambient air quality standards, such as wood smoke reduction programs for Eagle River, the Mendenhall Valley, and the Fairbanks North Star Borough. Current control measures in Fairbanks include an opacity limit and mandatory curtailment program for solid-fuel fired heating devices, emission standards for new wood-fired heating devices installed in the area, a requirement to burn only dry wood in wood heaters, a woodstove changeout program, a prohibition on open burning, and public education, among other requirements. Alaska noted in its progress report that these control measures could potentially reduce overall area source emissions inventories in the future.

In addition to reductions of emissions from anthropogenic sources, the progress report describes emissions reductions attributable to wildfire management. Specifically, the report states that in recent years, prescribed fires have reduced the emissions from the area burned by close to half of what they would have been if they had burned during a wildfire. According to the progress report, over the period of 2007 to 2013, hundreds of tons of PM2.5 emissions were averted by using prescribed burning to prevent wildfires.

The progress report also contains an analysis tracking the change in statewide emissions between 2002 and 2008. The 2002 inventory was used in the development of the original Alaska regional haze SIP. At the time Alaska prepared the progress report, the 2008 inventory was the most recent year that complete emission inventories were available for the state. Alaska notes that the differences between the 2002 and 2008 inventories for some source categories do not accurately reflect a change in emissions, as a number of methodology changes and enhancements have occurred between the developments of the individual inventories, as described in more detail below. Summaries from the progress report are included in Tables 2 and 3. A more detailed description of each inventory is provided in section 3.2.1 of Appendix A to the progress report.

Table 2—Sulfur Dioxide, Nitrogen Oxides, and Ammonia Emissions
[Tons/year]
| SO2: 2002 | SO2: 2008 | NOX: 2002 | NOX: 2008 | Ammonia: 2002 | Ammonia: 2008
Point | 6,813 | 5,039 | 74,471 | 68,564 | 580 | 178
Area | 1,872 | 3,365 | 14,742 | 19,404 | 0 | 356
On-Road Mobile | 324 | 490 | 7,077 | 15,696 | 307 | 230
Off-Road Mobile | 49 | 395 | 4,111 | 3,387 | 8 | 7
Aviation | 335 | (*) | 3,265 | (*) | 6 | (*)
Commercial Marine | 4,979 | 5,180 | 11,258 | 24,370 | 5 | 11
Total Anthropogenic | * 14,037 | * 14,469 | * 111,659 | * 131,421 | * 900 | * 782
Fire | 34,304 | 4,482 | 125,110 | 16,344 | 26,233 | 3,417
Total | * 48,341 | * 18,951 | * 236,769 | * 147,765 | * 27,133 | * 4,199
* Sums and differences do not include aviation emissions, as 2008 inventory totals were not available from this source for comparison purposes.

Table 3—Volatile Organic Compound, Fine Soil, and Coarse Mass Emissions
[Tons/year]
| VOC: 2002 | VOC: 2008 | Fine soil: 2002 | Fine soil: 2008 | Coarse mass: 2002 | Coarse mass: 2008
Point | 5,697 | 4,582 | 1,237 | 563 | 4,696 | 2,392
Area | 128,271 | 10,890 | 30,636 | 2,289 | 76,349 | 121
On-Road Mobile | 7,173 | 6,740 | 158 | 1,194 | 46 | 164
Off-Road Mobile | 7,585 | 19,094 | 392 | 670 | 24 | 46
Aviation | 1,566 | (*) | 667 | (*) | 20 | (*)
Commercial Marine | 356 | 609 | 643 | 1,114 | 32 | 64
Total Anthropogenic | * 149,082 | * 41,915 | * 33,066 | * 5,830 | * 81,147 | * 2,787
Fire | 274,436 | 35,761 | 478,057 | 63,330 | 79,346 | 10,495
Total | * 423,518 | * 77,676 | * 511,123 | * 69,160 | * 160,493 | * 13,282
* Sums and differences do not include aviation emissions, as 2008 inventory totals were not available from this source for comparison purposes.

Regarding emissions inventories, Alaska made the following observations:

• Fire emission inventory estimates decreased. Note that these differences are not necessarily reflective of changes in monitored data, as the five-year baseline period is represented by a 2000-2004 average of fire emissions developed by the WRAP, and the five-year progress period is represented by fires that occurred in 2008.

• Point source inventories showed decreases for all species.

• Area source inventories showed increases in SO2 and NOX, but large decreases in volatile organic compounds (VOCs), fine soil, and coarse mass.

• On-road mobile source inventory comparisons showed increases in SO2, NOX, fine soil, and coarse mass, but a decrease in VOCs. Off-road mobile source inventories showed decreases in NOX, but increases in VOCs. (See section 6.1.2 of Appendix C.)

• Commercial marine sources showed large increases in NOX inventories, and only small changes in other parameters. Alaska attributed this increase, at least in part, to different emission inventory methodologies.

Alaska also notes that during high fire years, emissions from wildland fires can make up a significant portion of the state's overall emissions for some pollutants. Further, wildfire activity varies greatly from year to year, and unlike other emission sources, the locations vary from year to year. Alaska also notes that one contributing source of anthropogenic emissions not included in the emissions inventory is international anthropogenic emissions. According to the progress report, Alaska receives a significant amount of globally transported pollution, particularly from Asia and Russia. Continued industrial growth in these areas is likely to increase emissions of pollutants that contribute to regional haze in Alaska, although the extent of this contribution to haze in Alaska has not been determined due to lack of accurate international emission inventories.

D. Determination of Adequacy (40 CFR 51.308(h))

In accordance with 40 CFR 51.308(h)(1), “If the state determines [at the time the five-year progress report is submitted] that the existing implementation plan requires no further substantive revision at this time in order to achieve established goals for visibility improvement and emissions reductions, the state must provide to the Administrator a negative declaration that further revision of the existing implementation plan is not needed at this time.” Within the progress report, the State of Alaska provided a negative declaration stating that further revision of the existing implementation plan is not needed. The basis for the state's negative declaration is the finding that visibility on the 20% most impaired days has improved, and 2018 RPGs attained, at all Alaska IMPROVE monitors, except for the Denali Headquarters monitor, which shows a slight decrease in visibility for the current period compared to the baseline due to smoke from wildfires in Alaska in 2009.

Accordingly, the EPA proposes to find that Alaska adequately addressed the requirements in 40 CFR 51.308(h) in its determination that the existing Alaska regional haze SIP requires no substantive revisions at this time to achieve the established RPGs for Alaska Class I areas. We note in particular that, based on the visibility conditions for the most recent five-year period (2012-2016), Alaska is meeting 2018 RPGs at all Alaska IMPROVE monitors.

E. Consultation With Federal Land Managers (40 CFR 51.308(i))

In accordance with 40 CFR 51.308(i), the state must provide the Federal Land Managers (FLMs) with an opportunity for consultation, in person and at least 60 days prior to holding any public hearings on an implementation plan (or plan revision). The state must also include a description of how it addressed any comments provided by the FLMs. The State of Alaska provided an opportunity for FLM consultation at least 60 days prior to holding any public hearing on a draft progress report. This progress report was submitted to the FLMs on April 27, 2015, for review and comment. Comments were received from the FLMs on June 30, 2015. The FLM comments and state responses are presented in the progress report. In accordance with 40 CFR 51.308(i)(4), Alaska's progress report reaffirms the state' commitment to the regional haze SIP procedures for continuing consultation between the State of Alaska and FLMs on, among other things, the implementation of Alaska's regional haze SIP.

The EPA proposes to find that Alaska has addressed the requirements in 40 CFR 51.308(i) to provide the FLMs with an opportunity for consultation in person and at least 60 days prior to a public hearing on the progress report, included a description of how it addressed any comments from the FLMs, and provided a commitment for continuing consultation between the state and the FLMs. FLM comments and ADEC responses are provided in section E of the progress report.

IV. Additional Revision to the Regional Haze SIP To Reflect Adoption of Progress Report

Concurrent with the progress report, Alaska submitted an update to the “Commitment to Future 308 Plan Revisions” chapter of the regional haze SIP. The revision notes the adoption and submission of the progress report. The EPA is proposing to approve this revision to the regional haze SIP.

V. The EPA's Proposed Action

The EPA is proposing to approve the Alaska Regional Haze Progress Report submitted to the EPA on March 10, 2016, as meeting the applicable requirements of the CAA and RHR, as set forth in 40 CFR 51.308(g). The EPA proposes to find that the existing regional haze SIP is adequate to meet the state's visibility goals and requires no substantive revision at this time, as set forth in 40 CFR 51.308(h). We propose to find that Alaska fulfilled the requirements in 40 CFR 51.308(i) regarding state coordination with FLMs. Lastly, we propose to approve updates to the Enhanced Smoke Management Plan, Long-Term Strategy, and Commitment to Future 308 Plan Revision sections of the regional haze SIP, submitted concurrently with the Alaska Regional Haze Progress Report.

VI. Statutory and Executive Order Reviews

Under the CAA, the Administrator is required to approve a SIP submission that complies with the provisions of the CAA and applicable Federal regulations.¹² Thus, in reviewing SIP submissions, the EPA's role is to approve state choices, provided that they meet the criteria of the CAA. Accordingly, this proposed action merely approves state law as meeting Federal requirements, and does not impose additional requirements beyond those imposed by state law. For that reason, this proposed action:

¹² 42 U.S.C. 7410(k); 40 CFR 52.02(a).

• Is not a “significant regulatory action” subject to review by the Office of Management and Budget under Executive Orders 12866 (58 FR 51735, October 4, 1993) and 13563 (76 FR 3821, January 21, 2011);

• Is not an Executive Order 13771 (82 FR 9339, February 2, 2017) regulatory action because actions such as SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because this rulemaking does not involve technical standards; and

• Does not provide the EPA with the discretionary authority to address, as appropriate, disproportionate human health or environmental effects, using practicable and legally permissible methods, under Executive Order 12898 (59 FR 7629, February 16, 1994).

In addition, this proposed action does not apply on any Indian reservation land or in any other area where the EPA or an Indian tribe has demonstrated that a tribe has jurisdiction. In those areas of Indian country, the rule does not have tribal implications as specified by Executive Order 13175 (65 FR 67249, November 9, 2000).

List of Subjects in 40 CFR Part 52

Environmental protection, Air pollution control, Incorporation by reference, Intergovernmental relations, Nitrogen dioxide, Particulate matter, Reporting and recordkeeping requirements, Sulfur oxides, Visibility, and Volatile organic compounds.

Authority: 42 U.S.C. 7401 et seq.

Dated: February 7, 2018.
Chris Hladick,
Regional Administrator, Region 10.

[FR Doc. 2018-03269 Filed 2-15-18; 8:45 am]

BILLING CODE 6560-50-P